DEPARTMENT OF ENERGY

Federal Energy Regulatory Commission

[Docket No. RP00-218-002]

Natural Gas Pipeline Company of America; Notice of Compliance Filing

August 15, 2001.

Take notice that on July 13, 2001, Natural Gas Pipeline Company of America (Natural) tendered for filing a report on Rate Schedule IBS in compliance with the Commission's April 12, 2000 order in Docket No. RP00-218-000. Natural's filing is a report of the first twelve months ending April 30, 2001, during which Rate Schedule IBS was in effect.

Any person desiring to protest said filing should file a protest with the Federal Energy Regulatory Commission, 888 First Street, NE., Washington, DC 20426, in accordance with Section 385.211 of the Commission's Rules and Regulations. All such protests must be filed on or before August 22, 2001. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20955 Filed 8-20-01; 8:45 am]

BILLING CODE 6717-01-P